FEDERAL MARITIME COMMISSION

Notice of Agreements Filed

The Commission hereby gives notice of the filing of the following agreements under the Shipping Act of 1984. Interested parties may submit comments on an agreement to the Secretary, Federal Maritime Commission, Washington, DC 20573, within ten days of the date this notice appears in the Federal Register. Copies of agreements are available through the Commission's Office of Agreements (202-523-5793 or tradeanalysis@fmc.gov).

Agreement No.: 011834-003.

Title: Maersk Sealand/Hapag-Lloyd Mediterranean U.S. East Coast Slot Charter Agreement.

Parties: A.P. Moller Maersk A/S and Hapag-Lloyd Container Linie GmbH.

Filing Party: Wayne R. Rohde, Esq.; Sher & Blackwell LLP; 1850 M Street, NW., Suite 900; Washington, DC 20036.

Synopsis: The amendment expands the geographic scope of the agreement to include ports on the U.S. Gulf and in Egypt, Israel, and Turkey; revises the amount of space to be chartered; clarifies the treatment of U.S. preference cargoes, amends the duration of the agreement and the conditions under which a party may resign; and changes the governing law and location of arbitration.

Agreement No.: 201130-001.

Title: Broward County/Discovery Wharfage Agreement.

Parties: Broward County and Discovery Cruise Services, Inc.

Filing Party: Ms. Candace McCann; Office of the County Attorney; 1850 Eller Drive, Suite 502; Fort Lauderdale, FL 33316.

Synopsis:The amendment updates the parties' respective financial, operational, and economic interests and obligations under the agreement.

Dated: December 16, 2005.
By Order of the Federal Maritime Commission.
Bryant L. VanBrakle,
Secretary.

[FR Doc. E5-7624 Filed 12-20-05; 8:45 am]

BILLING CODE 6730-01-P